DEPARTMENT OF THE INTERIOR

Surface Mining Reclamation and Enforcement

30 CFR Part 1206

Product Valuation

CFR Correction

In Title 30 of the Code of Federal Regulations, Parts 700 to End, revised as of July 1, 2012, on page 742, in § 1206.57(d)(3) the reference to “§ 1218.54” is corrected to read “§ 1218.56”, and on page 761, in § 1206.117(a), the reference to “§ 218.54” is corrected to read “§ 1218.54”.

[FR Doc. 2013-07512 Filed 3-28-13; 8:45 am]

BILLING CODE 1505-01-D